DEPARTMENT OF THE TREASURY

Office of Foreign Assets Control

Unblocking of Specially Designated Nationals and Blocked Persons Pursuant to Executive Order 12978

AGENCY: Office of Foreign Assets Control, Treasury.

ACTION: Notice.

SUMMARY: The Treasury Department's Office of Foreign Assets Control (“OFAC”) is publishing the names of eight individuals whose property and interests in property have been unblocked pursuant to Executive Order 12978 of October 21, 1995, Blocking Assets and Prohibiting Transactions With Significant Narcotics Traffickers.

DATES: The unblocking and removal from the list of Specially Designated Nationals and Blocked Persons (“SDN List”) of the eight individuals identified in this notice whose property and interests in property were blocked pursuant to Executive Order 12978 of October 21, 1995, is effective on November 24, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) via facsimile through a 24-hour fax-on demand service, tel.: (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On November 24, 2009, OFAC removed from the SDN List the eight individuals listed below, whose property and interests in property were blocked pursuant to the Order:

GALVEZ RODRIGUEZ, Luz Marina, c/o PRODUCTOS GALO Y CIA. LTDA., Bogota, Colombia; c/o REPRESENTACIONES Y DISTRIBUCIONES HUERTAS Y ASOCIADOS S.A., Bogota, Colombia; DOB 15 Mar 1953; Cedula No. 41589020 (Colombia); Passport 41589020 (Colombia) (individual) [SDNT].

MOSQUERA MAYA, Maria Alejandra (a.k.a. SANTACOLOMA, Maria Alejandra), 14420 NW 16th St., Pembroke Pines, FL 33028; c/o ASH TRADING, INC., Pembroke Pines, FL; DOB 22 Sep 1973; Cedula No. 34564670 (Colombia); Passport 34564670 (Colombia) (individual) [SDNT].

RODRIGUEZ AYALA, Jhon Jairo, c/o COOPIFARMA, Bucaramanga, Colombia; Avenida Bucaros No. 3-05 Bloq. 8 ap. 302, Bucaramanga, Colombia; DOB 29 Nov 1975; Cedula No. 91480692 (Colombia) (individual) [SDNT].

MOR GAVIRIA, Jaime, c/o DURATEX S.A., Bogota, Colombia; c/o MOR ALFOMBRAS ALFOFIQUE S.A., Bogota, Colombia; c/o PROMOCIONES E INVERSIONES LAS PALMAS S.A., Bogota, Colombia; c/o SUPER BOYS GAMES LTDA., Bogota, Colombia; c/o GAVIRIA MOR Y CIA. LTDA., Girardot, Colombia; c/o MOR GAVIRIA Y CIA. S.C.S., Bogota, Colombia; DOB 27 Sep 1980; POB Colombia; Cedula No. 11203386 (Colombia); Passport AG443304 (Colombia) (individual) [SDNT].

GAVIRIA DE MOR, Liliana, c/o DURATEX S.A., Bogota, Colombia; c/o MOR ALFOMBRAS ALFOFIQUE S.A., Bogota, Colombia; c/o MOR GAVIRIA S.C.S., Bogota, Colombia; c/o GAVIRIA MOR Y CIA. LTDA., Girardot, Colombia; c/o CONSTRUCTORA AMERICA S.A., Bogota, Colombia; DOB 16 Mar 1965; POB Bogota, Colombia; Cedula No. 20621292 (Colombia); Passport AG443233 (Colombia) (individual) [SDNT].

RODRIGUEZ DE ROJAS, Haydee (a.k.a. RODRIGUEZ DE MUNOZ, Haydee; a.k.a. RODRIGUEZ OREJUELA, Haydee), c/o RADIO UNIDAS FM S.A., Cali, Colombia; c/o DISTRIBUIDORA MIGIL LTDA., Cali, Colombia; c/o CREACIONES DEPORTIVAS WILLINGTON LTDA., Cali, Colombia; c/o HAYDEE DE MUNOZ Y CIA. S. EN C., Cali, Colombia; c/o DISTRIBUIDORA DE DROGAS CONDOR LTDA., Bogota, Colombia; c/o BLANCO PHARMA S.A., Bogota, Colombia; c/o CORPORACION DEPORTIVA AMERICA, Cali, Colombia; c/o SORAYA Y HAYDEE LTDA., Cali, Colombia; DOB 22 Sep 1940; Cedula No. 38953333 (Colombia) (individual) [SDNT].

RODRIGUEZ ARBELAEZ, Carolina, c/o INVERSIONES ARA LTDA., Cali, Colombia; c/o PRODUCCIONES CARNAVAL DEL NORTE Y COMPANIA LIMITADA, Cali, Colombia; c/o ASISTENCIA PROFESIONAL ESPECIALIZADA EN COLOMBIA LIMITADA, Cali, Colombia; c/o BONOMERCAD S.A., Bogota, Colombia; c/o CREDIREBAJA S.A., Cali, Colombia; c/o DECAFARMA S.A., Bogota, Colombia; c/o DROCARD S.A., Bogota, Colombia; c/o CRASESORIAS E.U., Cali, Colombia; c/o FUNDASER, Cali, Colombia; c/o INVERSIONES CARFENI, S.L., Madrid, Spain; DOB 17 May 1979; Cedula No. 29117505 (Colombia) (individual) [SDNT].

BARON DIAZ, Carlos Arturo, c/o DISTRIBUIDORA MIGIL LTDA., Cali, Colombia; c/o GRACADAL S.A., Cali, Colombia; DOB 22 Jul 1931; Cedula No. 49994 (Colombia) (individual) [SDNT].

Dated: November 24, 2009.
Adam J. Szubin,
Director, Office of Foreign Assets Control.

[FR Doc. E9-28748 Filed 11-30-09; 8:45 am]

BILLING CODE 4811-45-P